DEPARTMENT OF ENERGY

Federal Energy Regulatory Commission

[Docket No. CP99-600-000]

National Fuel Gas Distribution Corporation; Notice of Technical Conference

December 28, 2000.

Take notice that a technical conference will be held on Wednesday, January 10, 2001, at 2:00 p.m., in Room 3m-1 at the offices of the Federal Energy Regulatory Commission, 888 First Street, NE, Washington, DC 20426. On December 21, 2000, Norse Pipeline, L.L.C. and Nornew Energy, Inc. filed in request to meet with the Staff and interested parties regarding their options to address the jurisdictional issues raised by the Commission's December 14, 2000 Order Addressing Petition for Declaratory Order and Directing Compliance Filing (93 FERC 61,276 (2000)).

All interested parties and Staff are permitted to attend. For additional information, please contact Robert Christin (202) 208-1022.

Linwood A. Watson, Jr.,
Acting Secretary.

[FR Doc. 01-298 Filed 1-4-01; 8:45 am]

BILLING CODE 6717-01-M